DEPARTMENT OF ENERGY

10 CFR Part 430

[EERE-2019-BT-STD-0036]

RIN 1904-AE82

Energy Conservation Program: Energy Conservation Standards for Consumer Products; Early Assessment Review; Boilers

AGENCY: Office of Energy Efficiency and Renewable Energy, Department of Energy.

ACTION: Extension of public comment period.

SUMMARY: On March 25, 2021, the U.S. Department of Energy (DOE or the Department) published in the Federal Register an early assessment request for information (RFI) pertaining to the potential amendment of energy conservation standards for consumer boilers. The early assessment RFI provided an opportunity for submission of written comments, data, and information to the Department by April 26, 2021. Prior to the end of the comment period for the RFI, DOE received requests from the Air-Conditioning, Heating and Refrigeration Institute (AHRI), as well as from the American Public Gas Association (APGA), seeking additional time to consider the issues raised in the early assessment RFI. In light of these requests, DOE is announcing its decision to extend the comment period on the subject RFI for an additional 30 days.

DATES: The comment period for the consumer boilers early assessment RFI published in the Federal Register on March 25, 2021 (86 FR 15804) is extended to May 26, 2021. Written comments, data, and information are requested and will be accepted on or before May 26, 2021.

ADDRESSES: Interested persons are encouraged to submit comments using the Federal eRulemaking Portal at http://www.regulations.gov. Follow the instructions for submitting comments. Alternatively, interested persons may submit comments by email to the following address: Email: ConsumerBoilers2019STD0036@ee.doe.gov. Include “Consumer Boilers RFI” and docket number EERE-2019-BT-STD-0036 and/or RIN 1904-AE82 in the subject line of the message. Submit electronic comments in WordPerfect, Microsoft Word, PDF, or ASCII file format, and avoid the use of special characters or any form of encryption. No telefacsimiles (faxes) will be accepted.

Although DOE has routinely accepted public comment submissions through a variety of mechanisms, including postal mail and hand delivery/courier, the Department has found it necessary to make temporary modifications to the comment submission process in light of the ongoing Covid-19 pandemic. DOE is currently accepting only electronic submissions at this time. If a commenter finds that this change poses an undue hardship, please contact Appliance Standards Program staff at (202) 586-1445 to discuss the need for alternative arrangements. Once the Covid-19 pandemic health emergency is resolved, DOE anticipates resuming all of its regular options for public comment submission, including postal mail and hand delivery/courier.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at: http://www.regulations.gov/#!docketDetail;D=EERE-2019-BT-STD-0036. The docket web page contains instructions on how to access all documents, including public comments, in the docket.

FOR FURTHER INFORMATION CONTACT: Ms. Catherine Rivest, U.S. Department of Energy, Office of Energy Efficiency and Renewable Energy, Building Technologies Office, EE-5B, 1000 Independence Avenue SW, Washington, DC 20585-0121. Telephone: (202) 586-7335. Email: ApplianceStandardsQuestions@ee.doe.gov.

Mr. Eric Stas, U.S. Department of Energy, Office of the General Counsel, GC-33, 1000 Independence Avenue SW, Washington, DC 20585-0121. Telephone: (202) 586-5827. Email: Eric.Stas@hq.doe.gov.

For further information on how to submit a comment or review other public comments and the docket, contact the Appliance and Equipment Standards Program staff at (202) 287-1445 or by email: ApplianceStandardsQuestions@ee.doe.gov.

SUPPLEMENTARY INFORMATION: DOE published an early assessment RFI pertaining to energy conservation standards for consumer boilers in the Federal Register on March 25, 2021. 86 FR 15804. The early assessment RFI initiated a data collection process and seeks input from the public to assist DOE in evaluating whether amended energy conservation standards for consumer boilers would result in significant savings of energy, be technologically feasible, and be economically justified. In that early assessment RFI, DOE requested submission of written comment, data, and information pertaining to that subject by April 26, 2021.

On March 31, 2021, AHRI, an interested party in the matter, submitted a request ¹ for a 30-day extension of the public comment period for the early assessment RFI for consumer boilers that DOE previously published in the Federal Register on March 25, 2021. More specifically, AHRI requested additional time to consider the issues raised in the early assessment RFI for consumer boilers.

¹ Available at https://www.regulations.gov/comment/EERE-2019-BT-STD-0036-0002.

On April 2, 2021, APGA also submitted a request ² for a 30-day extension of the public comment period for the consumer boilers early assessment RFI, for similar reasons to those expressed in the AHRI request.

² Available at https://www.regulations.gov/comment/EERE-2019-BT-STD-0036-0003.

After carefully considering these submissions, DOE has determined that it is appropriate to grant these requests to extend the comment period by 30 days to allow additional time for interested parties to prepare and submit comments. Therefore, DOE is extending the comment period for the consumer boilers early assessment RFI and will accept comments, data, and information on this matter received on and before May 26, 2021. Accordingly, DOE will consider any comments received by this date to be timely submitted.

Signing Authority

This document of the Department of Energy was signed on April 2, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 6, 2021.
Treena V. Garrett,
Federal Register Liaison Officer, U.S. Department of Energy.

[FR Doc. 2021-07301 Filed 4-8-21; 8:45 am]

BILLING CODE 6450-01-P